GENERAL SERVICES ADMINISTRATION

[Notice-MG-2021-01; Docket No. 2021-0002; Sequence No. 1]

Office of Federal High-Performance Buildings; Green Building Advisory Committee; Notification of Upcoming Web Meeting

AGENCY: Office of Government-Wide Policy, General Services Administration (GSA).

ACTION: Meeting notice.

SUMMARY: In accordance with the requirements of the Federal Advisory Committee Act, this notice provides the agenda for the January 28, 2021 Web meeting of the Green Building Advisory Committee (the Committee). Interested individuals must register to attend as instructed below under Supplementary Information.

DATES: The Committee's Web meeting will be held on Thursday, January 28, 2021, from 11:00 a.m. to 4:30 p.m. Eastern time (ET).

FOR FURTHER INFORMATION CONTACT: Dr. Ken Sandler, Designated Federal Officer, Office of Federal High-Performance Buildings, Office of Government-wide Policy, General Services Administration, 1800 F Street NW, (Mail-code: MG), Washington, DC 20405, at ken.sandler@gsa.gov or 202-219-1121. Additional information about the Committee, including meeting materials and agendas, will be available on-line at http://www.gsa.gov/gbac.

SUPPLEMENTARY INFORMATION:

Procedures for Attendance and Public Comment

Contact Dr. Ken Sandler at ken.sandler@gsa.gov or 202-219-1121 to register to attend the Committee meeting. To attend, submit your full name, organization, email address, and phone number. Requests to attend the meeting must be received by 5:00 p.m. ET, on Monday, January 25, 2021. (GSA will be unable to provide technical assistance to any listener experiencing technical difficulties. Testing access to the Web meeting site before the calls is recommended.)

Contact Dr. Sandler to register to comment during the meeting public comment period. Registered speakers/organizations will be allowed a maximum of five minutes each and will need to provide written copies of their presentations. Requests to comment at the meeting must be received by 5:00 p.m., ET, on Monday, January 25, 2021.

Background

The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

January 28, 2021 Meeting Agenda

• Updates and introductions

• Embodied energy task group findings & recommendations

• Election for Committee Chair

• Sustainable response to COVID-19 task group findings & recommendations

• Energy storage task group findings & recommendations

• New committee directions & topics to explore

• Public comment

• Next steps and closing comments

Kevin Kampschroer,
Federal Director, Office of Federal High-Performance Buildings, General Services Administration.

[FR Doc. 2021-00515 Filed 1-12-21; 8:45 am]

BILLING CODE 6820-14-P